DEPARTMENT OF THE INTERIOR

National Park Service

Notice of Intent To Repatriate Cultural Items: Memphis Pink Palace Museum, Memphis, TN

AGENCY: National Park Service, Interior.

ACTION: Notice.

Notice is here given in accordance with the Native American Graves Protection and Repatriation Act (NAGPRA), 25 U.S.C. 3005, of the intent to repatriate cultural items in the possession of the Memphis Pink Palace Museum, Memphis, TN, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

The 92 unassociated funerary objects are whole and restored ceramic vessels from the Bradley site (3CT7), Crittenden County, AR. The collection was acquired as a donation from a private individual in 1958.

The Bradley site was a village or town of the late Mississippian and proto-historic periods, located in Crittenden County, northeast Arkansas. Archeological evidence indicates that the site was occupied during the Nodena phase (A.D. 1350-1650). Funerary objects removed from the site have been dated to the period from A.D. 1350-1650. The Bradley site is thought to be the capital of “Pacaha” identified in the DeSoto chronicles. Historical documentation indicates that this site dates into the 17th century and close to the time when the Quapaw Tribe was documented by early Europeans. Linguistic evidence indicates a possible link between “Capaha” (a.k.a. Pacaha) in a Spanish account, and a late 17th century Quapaw Indian village name “Kappah” or “Kappa.” French maps and documents (A.D. 1673-1720), indicate that only the Quapaw had villages in this area of eastern Arkansas. Oral traditional evidence indicates that the Quapaw had a continuous presence in the area, including hunting lands, and that burial practices such as placement of food with the dead continues to be an important burial ritual.

Archeological, historical and ethnographic sources indicate that the type of pottery found at the Bradley site was produced by the Quapaw (Morse 1992). Descendants of the Quapaw are members of the Quapaw Tribe of Indians, Oklahoma. Finally, the Quapaw Tribe of Indians, Oklahoma, through the NAGPRA process, have previously been determined to be culturally affiliated with the Bradley site and have repatriated Native American human remains and associated funerary objects from the site.

Officials of the Memphis Pink Palace Museum have determined that, pursuant to 25 U.S.C. 3001(3)(B), the 92 cultural items described above are reasonably believed to have been placed with or near individual human remains at the time of death or later as part of the death rite or ceremony and are believed, by a preponderance of the evidence, to have been removed from a specific burial site of a Native American individual. Officials of the Memphis Pink Palace Museum also have determined that, pursuant to 25 U.S.C. 3001(2), there is a relationship of shared group identity that can be reasonably traced between the unassociated funerary objects and the Quapaw Tribe of Indians, Oklahoma.

Representatives of any other Indian tribe that believes itself to be culturally affiliated with the unassociated funerary objects should contact Louella Weaver, Memphis Pink Palace Museum, 3050 Central Ave., Memphis, TN 38111, telephone (901) 320-6322, before September 24, 2010. Repatriation of the unassociated funerary objects to the Quapaw Tribe of Indians, Oklahoma, may proceed after that date if no additional claimants come forward.

The Memphis Pink Palace Museum is responsible for notifying the Quapaw Tribe of Indians, Oklahoma, that this notice has been published.

Dated: August 19, 2010
David Tarler,
Acting Manager, National NAGPRA Program.

[FR Doc. 2010-21191 Filed 8-24-10; 8:45 am]

BILLING CODE 4312-50-S